CONSUMER PRODUCT SAFETY COMMISSION

Petition for Classification of “BeeSafe System” as an Anti-Entrapment System Under the Virginia Graeme Baker Pool and Spa Safety Act (“VGB Act”)

AGENCY: U.S. Consumer Product Safety Commission.

ACTION: Notice.

SUMMARY: The U.S. Consumer Product Safety Commission (“Commission” or “We”) has received a petition (CP 12-1) requesting that the Commission initiate rulemaking to determine that the “BeeSafe System” is equally effective as, or better than, the systems designed to prevent entrapment listed in the Virginia Graeme Baker Pool and Spa Safety Act (“VGB Act”). We invite written comments concerning the petition.¹

¹ The Commission voted 3-0-1 to publish this Federal Register notice. Chairman Tenenbaum abstained from voting.

DATES: The Office of the Secretary must receive comments on the petition by June 4, 2012.

ADDRESSES: You may submit comments, identified by Docket No. CPSC-2012-0020, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, U.S. Consumer Product Safety Commission, Room 820, 4330 East West Highway, Bethesda, MD 20814; telephone (301) 504-7923.

Instructions: All submissions received must include the agency name and petition number for this rulemaking. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: Rockelle Hammond, Office of the Secretary, U.S. Consumer Product Safety Commission, Room 820, 4330 East West Highway, Bethesda, MD 20814; telephone (301) 504-6833.

SUPPLEMENTARY INFORMATION: Section 1404(c)(1)(A)(ii) of the VGB Act requires that each public pool and spa in the United States with a single main drain other than an unblockable drain be equipped, at a minimum, with one or more of the following anti-entrapment devices or systems: (I) Safety vacuum release system; (II) Suction-limiting vent system; (III) Gravity drainage system; (IV) Automatic pump shut-off system; (V) Drain disablement; or (VI) any other system determined by the Commission to be equally effective as, or better than, these systems at preventing or eliminating the risk of injury or death associated with pool drainage systems. 15 U.S.C. 8003(c)(1)(A)(ii). The Commission has received correspondence from Bonnie Snow and Teri Snow (“petitioners”), dated February 13, 2012, requesting that the Commission initiate rulemaking to determine that the “BeeSafe System” is equally effective as, or better than, systems designed to prevent entrapment listed in 1406(c)(1)(A)(ii)(I)-(V) of the VGB Act. We are docketing this request as a petition under the Consumer Product Safety Act. 15 U.S.C. 2056 and 2058.

Petitioners offer information in support of their claim that the BeeSafe System is equally effective as, or better than, the systems designed to prevent entrapment listed in the VGB Act. They assert that the most defining feature of their system is the presence of long tubes, which they claim empty if they become blocked. For this reason, petitioners state, the “BeeSafe System is better alone than with an SVRS [suction vacuum release system] or back-up breaker.” Petitioners also describe that through the design of the BeeSafe system, they have eliminated the possibility of the entire cover going missing. They state that if the smaller, winterizing lid were to go missing, any tubes that became blocked would empty the water into the built-in sump and any suction at the surface would be released when this happened. They compare this action to a hydraulic switch, claiming that the action is “as fast or faster than any of the breaker secondary systems currently on the market.”

By this notice, the Commission seeks comments concerning this petition. Interested parties may obtain a copy of the petition and submission on the Commission's Web site at http://www.cpsc.gov/library/foia/foia12/petition/beesafe.pdf, by writing or calling the Office of the Secretary, U.S. Consumer Product Safety Commission, Room 820, 4330 East West Highway, Bethesda, MD 20814; telephone (301) 504-7923. Copies of the petition are also available for inspection from 8:30 a.m. to 5 p.m., Monday through Friday, in the Commission's Public Reading Room, Room 419, 4330 East West Highway, Bethesda, MD, or from the Commission's Web site at: www.cpsc.gov.

Dated: March 29, 2012.
Todd A. Stevenson,
Secretary, U.S. Consumer Product Safety Commission.

[FR Doc. 2012-8005 Filed 4-3-12; 8:45 am]

BILLING CODE 6355-01-P